DEPARTMENT OF THE INTERIOR

Bureau of Land Management

[MT-924-1430-ET; MTM 89384; Public Land Order No. 7472]

Withdrawal of Public Land on the Beaverhead River; Montana

AGENCY: Bureau of Land Management, Interior.

ACTION: Public land order.

SUMMARY: This order withdraws approximately 2,244 acres of public land from surface entry and mining for a period of 50 years for the Bureau of Land Management to protect critical resource values along the Beaverhead River. The land has been and will remain open to mineral leasing.

EFFECTIVE DATE: December 8, 2000.

FOR FURTHER INFORMATION CONTACT: Sandra Ward, BLM Montana State Office, P.O. Box 36800, Billings, Montana 59107-6800, 406-896-5052, or Russ Sorensen, BLM Dillon Field Office, 1005 Selway Drive, Dillon, Montana 59725, 406-683-2337.

By virtue of the authority vested in the Secretary of the Interior by Section 204 of the Federal Land Policy and Management Act of 1976, 43 U.S.C. 1714 (1994), it is ordered as follows:

1. Subject to valid existing rights, the following described public land is hereby withdrawn from settlement, sale, location, or entry under the general land laws, including the United States mining laws (30 U.S.C. Ch. 2 (1994)), but not from leasing under the mineral leasing laws, to protect critical resource values along the Beaverhead River:

Principal Meridian, Montana

Tract 1

T. 8 S., R. 10 W.,

Sec. 35, lots 3 and 4, and NW¼SE¼.

T. 9 S., R. 10 W.,

Sec. 1, lots 6 to 22, inclusive;

Sec. 2, lots 1 to 4, inclusive, S½N½, and S½;

Sec. 11, lot 1 and N½, EXCEPTING THEREFROM that tract of land described in the Deed dated June 22, 1946, recorded in Book 110 of Deeds, Page 263, Records of Beaverhead County, Montana;

Sec. 12, NW¼NE¼, S½NE¼, NW¼, E½SW¼, NW¼SW¼, and SE¼;

Sec. 13, N½NE¼ and NE¼NW¼, EXCEPTING THEREFROM, Certificate of Survey 889, all those portions conveyed to the State of Montana for State Highway purposes, those portions conveyed for railroad purposes, and those portions taken by the Declaration of Taking dated September 13, 1960.

Tract 2

Certificate of Survey 889, which is a parcel of land located in the NW¼ of sec. 11, sec. 2, and lots 9 and 10 of sec. 1, T. 9 S., R. 10 W.

The area described contains approximately 2,244 acres in Beaverhead County.

2. The withdrawal made by this order does not alter the applicability of those public land laws governing the use of the lands under lease, license, or permit, or governing the disposal of their mineral or vegetative resources other than under the mining laws.

3. This withdrawal will expire 50 years from the effective date of this order unless, as a result of a review conducted before the expiration date pursuant to Section 204(f) of the Federal Land Policy and Management Act of 1976, 43 U.S.C. 1714(f) (1994), the Secretary determines that the withdrawal shall be extended.

Dated: November 28, 2000.
Sylvia V. Baca,
Assistant Secretary of the Interior.

[FR Doc. 00-31258 Filed 12-7-00; 8:45 am]

BILLING CODE 4310-DN-P